FEDERAL COMMUNICATIONS COMMISSION

47 CFR Parts 1 and 63

[IB Docket No. 16-155; DA 20-1545; FRS 17408]

International Bureau Seeks Comment on Standard Questions for Applicants Whose Applications Will Be Referred to the Executive Branch for Review Due to Foreign Ownership

AGENCY: Federal Communications Commission.

ACTION: Proposed rules.

SUMMARY: In this document, the International Bureau seeks comment on a set of standardized national security and law enforcement questions (Standard Questions) that proponents of certain applications and petitions involving reportable foreign ownership will be required to answer as part of the application review process and whose application and petition will be referred to the Executive Branch.

DATES: Comments are due April 2, 2021. Reply comments are due April 19, 2021.

ADDRESSES: You may submit comments, identified by IB Docket No. 16-155, by any of the following methods:

• Electronic Filers: Comments may be filed electronically using the internet by accessing the ECFS: http://www.fcc.gov/ecfs/.

• Paper Filers: Parties who choose to file by paper must file an original and one copy of each filing. If more than one docket or rulemaking number appears in the caption of this proceeding, filers must submit two additional copies for each additional docket or rulemaking number.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19.

See FCC Announces Closure of FCC Headquarters Open Window and Change in Hand-Delivery Policy, Public Notice, 35 FCC Rcd 2788 (2020), https://www.fcc.gov/document/fcc-closes-headquarters-open-window-and-changes-hand-delivery-policy.

People with Disabilities. To request materials in accessible formats for people with disabilities (Braille, large print, electronic files, audio format), send an email to fcc504@fcc.gov or call the Consumer and Governmental Affairs Bureau at 202-418-0530 (voice), 202-418-0432 (tty).

In addition, filers should provide one copy of each filing to each of the following:

(1) Arthur Lechtman, Attorney, Telecommunications and Analysis Division, International Bureau, at Arthur.Lechtman@fcc.gov, and

(2) David Krech, Associate Division Chief, Telecommunications and Analysis Division, International Bureau, at David.Krech@fcc.gov.

FOR FURTHER INFORMATION CONTACT: Arthur Lechtman, International Bureau, Telecommunications and Analysis Division, at (202) 418-1465. For information regarding the Paperwork Reduction Act (PRA) information collection requirements contained in the PRA, contact Cathy Williams, Office of Managing Director, at (202) 418-2918 or Cathy.Williams@fcc.gov.

SUPPLEMENTARY INFORMATION: This is a summary of the Public Notice, DA 20-1545, released on December 30, 2020. The full text of this document is available on the Federal Communications Commission's website at https://www.fcc.gov/document/standard-questions-applications-referred-executive-branch.

Supplemental Initial Regulatory Flexibility Analysis

As required by the Regulatory Flexibility Act of 1980, as amended (RFA), the International Bureau has prepared a Supplemental Initial Regulatory Flexibility Analysis (Supplemental IRFA) of the possible significant economic impact on small entities of the proposals addressed in this Public Notice to supplement the Federal Communications Commission's (Commission) Final Regulatory Flexibility Analyses completed in the Executive Branch Review Order, 85 FR 76360 (Nov. 27, 2020).

Synopsis

By this Public Notice, the International Bureau (Bureau) seeks comment on a set of standardized national security and law enforcement questions (Standard Questions) that proponents of certain applications and petitions involving reportable foreign ownership will be required to answer as part of the review process. In the Executive Branch Review Order, ¹ the Commission adopted rules and procedures to facilitate a more streamlined and transparent review process for coordinating these applications and petitions with the Executive Branch agencies (the Departments of Justice, Homeland Security, Defense, State, and Commerce, as well as the U.S. Trade Representative) for any national security, law enforcement, foreign policy, or trade policy issues. The Commission refers applications for international section 214 authorizations and submarine cable licenses and applications to assign, transfer control or modify such authorizations and licenses where the applicant has reportable foreign ownership, and all petitions for section 310(b) foreign ownership rulings.

¹ Process Reform for Executive Branch Review of Certain FCC Applications and Petitions Involving Foreign Ownership, IB Docket No. 16-155, Report and Order, 85 FR 76360 Nov. 27, 2020, 35 FCC Rcd 10927 (2020) (Executive Branch Review Order); Erratum (Appendix B—Final Rules), 35 FCC Rcd 13164 (OMD/IB 2020).

To expedite the Executive Branch agencies' review of such applications and petitions, applicants and petitioners will provide responses to the Standard Questions directly to the Committee for the Assessment of Foreign Participation in the United States Telecommunications Services Sector (Committee) prior to or at the same time that they file applications or petitions with the Commission. The Commission adopted five categories of information to be provided by an applicant or petitioner: (1) Corporate structure and shareholder information; (2) relationships with foreign entities; (3) financial condition and circumstances; (4) compliance with applicable laws and regulations; and (5) business and operational information, including services to be provided and network infrastructure. The Commission directed the International Bureau (Bureau) to develop, solicit comment on, and make available on a publicly available website the Standard Questions that will elicit the information needed by the Committee within those categories of information. The Bureau will also maintain and update the Standard Questions, as needed.

We seek comment on the Standard Questions set out in each of the following Appendices, which are identified by the type of application or petition. The Standard Questions are based upon current questionnaires used by the Committee to obtain information from applicants and petitioners.

• Appendix A—Standard Questions for an International Section 214 Authorization Application. Standard Questions for an international section 214 authorization application filed pursuant to 47 CFR 63.18, including a modification of an existing authorization;

• Appendix B—Standard Questions for an Application for an Assignment or Transfer of Control of an International Section 214 Authorization. Standard Questions for an assignment or transfer of control of an international section 214 authorization application filed pursuant to 47 CFR 63.24;

• Appendix C—Standard Questions for Submarine Cable Landing License Application. Standard Questions for a cable landing license application filed pursuant to 47 CFR 1.767 including a modification of an existing license;

• Appendix D—Standard Questions for an Application for Assignment or Transfer of Control of a Submarine Cable Landing License. Standard Questions for an assignment or transfer of control of a cable landing license application filed pursuant to 47 CFR 1.767;

• Appendix E—Standard Questions for Section 310(b) Petition for Declaratory Ruling Involving a Broadcast Licensee. Standard Questions for a petition for declaratory ruling for foreign ownership in a broadcast licensee above the benchmark in section 310(b)(4) of the Communications Act (the Act) filed pursuant to 47 CFR 1.5000-1.5004;

• Appendix F—Standard Questions for Section 310(b) Petition for Declaratory Ruling Involving a Common Carrier Wireless or Common Carrier Earth Station Licensee. Standard Questions for a petition for declaratory ruling for foreign ownership in a common carrier wireless or common carrier earth station licensee above the benchmarks in section 310(b)(3) or 310(b)(4) of the Act filed pursuant to 47 CFR 1.5000-1.5004; and

• Appendix G—Personally Identifiable Information (PII) Supplement. All of the Standard Questions reference this supplement to assist the Committee in identifying PII.

We seek comment on the questions in each of the Appendices. If needed, to help clarify the questions for applicants and petitioners, we ask that commenting parties provide specific suggested changes to the language of the questions. We seek comment on whether there are questions that are not necessary or if there are any questions that we should include to help expedite the review process. We ask parties for comment on the definitions of key terms that are used in the Appendices, such as “corporate officers” and “senior-level” officers as well as “remote access” and “managed services.” We seek comment on how often, and under what circumstances, the Bureau should reevaluate the Standard Questions. Finally, we seek comment on how long it would take applicants to fill out each questionnaire.

After we review and consider the comments received on the Standard Questions, we will issue an Order addressing the comments and will seek approval for the Standard Questions under the Paperwork Reduction Act. We will issue a Public Notice informing the public of the effective date of the Standard Questions. Following Public Notice of the effective date, the Standard Questions will be made available on the Commission's website and all parties filing applications or petitions subject to Executive Branch referral will be required to submit answers to the Standard Questions to the Committee prior to or at the same time that they file the application or petition with the Commission. Until that time, the Committee will continue to send its own questions to the applicant or petitioner upon the Commission's referral of the application or petition.

Supplemental Initial Regulatory Flexibility Analysis

Pursuant to the Regulatory Flexibility Act of 1980, as amended (RFA),² we have prepared this Supplemental Initial Regulatory Flexibility Analysis (Supplemental IRFA) of the possible significant economic impact on small entities of the proposals addressed in this Public Notice to supplement the Commission's Final Regulatory Flexibility Analyses completed in the Executive Branch Review Order.³ Written public comments are requested on this Supplemental IRFA. Comments must be identified as responses to the Supplemental IRFA and must be filed by the same deadline for comments specified on the first page of this Public Notice. We will send a copy of this Public Notice, including this Supplemental IRFA, to the Chief Counsel for Advocacy of the Small Business Administration (SBA).⁴

² 5 U.S.C. 603. The RFA, 5 U.S.C. 601-612, has been amended by the Small Business Regulatory Enforcement Fairness Act of 1996, Public Law 104-121, 110 Stat. 857 (1996).

³ Executive Branch Review Order, 35 FCC Rcd at 10990-11000, App. C.

⁴ See 5 U.S.C. 603(a).

This Public Notice sets forth the specific proposed “Standard Questions” for applications and petitions prescribed by the Executive Branch Review Order. As noted in the Initial and Final Regulatory Flexibility Analyses associated with that proceeding, standardizing these questions should improve the timeliness and transparency of the Executive Branch review process, thereby lessening the burden on all applicants and petitioners, including small entities. That order specified that the Standard Questions should include the following categories of information: (1) Corporate structure and shareholder information; (2) relationships with foreign entities; (3) financial condition and circumstances; (4) compliance with applicable laws and regulations; and (5) business and operational information, including services to be provided and network infrastructure. The proposed Standard Questions constitute the more specific implementation of the requirements set forth in the Executive Branch Review Order and are fully consistent therewith, and as directed by the Commission in that order take due account of the sample questions previously made available in this docket and the comments provided to the Commission thereon. Initial and Final Regulatory Flexibility Analyses were incorporated into the Executive Branch Review Order and the notice of proposed rulemaking associated with that order. In this Public Notice, we hereby incorporate by reference the descriptions and estimates of the number of small entities, as well as the associated analyses, set forth therein.

A copy of this Public Notice, including the Supplemental Initial Regulatory Flexibility Analysis, shall be sent to the Chief Counsel for Advocacy of the Small Business Administration.

Ex Parte Information

This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission
Troy Tanner,
Deputy Chief, International Bureau.

Note: The following appendices will not appear in the Code of Federal Regulations.

BILLING CODE 6712-01-P

[FR Doc. 2021-03410 Filed 3-2-21; 8:45 am]

BILLING CODE 6712-01-C